DEPARTMENT OF AGRICULTURE

Forest Service

Notice of Proposed Fee Changes; Federal Lands Recreation Enhancement Act, (Title VIII, Pub. L. 108-447)

AGENCY: Malheur National Forest, USDA Forest Service.

ACTION: Notice of Proposed Fee Changes.

SUMMARY: The Malheur National Forest is planning to increase fees at numerous campgrounds as well as begin charging fees at other campgrounds. Funds from fees collected will be used for the continued operation and maintenance of fee campgrounds on the Malheur National Forest.

DATES: Fees will be charged beginning on: May 28, 2007.

ADDRESSES: Forest Supervisor, Malheur National Forest, 431 Patterson Bridge Road, John Day, OR 97845.

FOR FURTHER INFORMATION CONTACT: Jennifer Harris, Recreation Fee Coordinator, 541-575-3008.

SUPPLEMENTARY INFORMATION: The Federal Recreation Lands Enhancement Act (Title VII, Pub. L. 108-447) directed the Secretary of Agriculture to publish a six-month advance notice in the Federal Register whenever new recreation fee areas are established. These new fees will be reviewed by a Recreation Resource Advisory Committee prior to a final decision and implementation.

The Malheur National Forest currently has 35 campgrounds. Of these 35 campgrounds, the Malheur National Forest is proposing modest increases in fees at 15 sites where fees are currently charged and to begin charging fees at 8 additional sites. A market analysis indicates that the proposed increases and fees are both reasonable and acceptable for this sort of recreation experience. The following is being proposed:

Proposed Increases:
Parish Cabin Campground | Increase fee to $8.
Starr Campground | Increase fee to $6.
Delintment Lake Campground | Increase fee to $10.
Emigrant Campground | Increase fee to $8.
Falls Campground | Increase fee to $8.
Idlewild Campground | Increase fee to $10.
Joaquin Miller Campground | Increase fee to $8.
Yellowjacket Campground | Increase fee to $10.
Deerhorn Forest Camp | Increase fee to $8.
Dixie Campground | Increase fee to $8.
Magone Lake Campground | Increase fee to $13.
Middle Fork Campground | Increase fee to $8.
Big Creek Campground | Increase fee to $8.
Strawberry Campground | Increase fee to $8.
Trout Farm Campground | Increase fee to $8.
Proposed Charging Fees:
Wickiup Campground | Charge fee of $8.
Buck Spring Campground | Charge fee of $6.
Rock Springs Campground | Charge fee of $6.
Tamarack Forest Camp | Charge fee of $6.
Tip Top Campground | Charge fee of $6.
Lower Camp Creek Forest Camp | Charge fee of $6.
Murray Campground | Charge fee of $8.
Slide Horse Camp | Charge fee of $8.

Dated: November 29, 2006.
Gary “Stan” Benes,
Malheur National Forest Supervisor.

[FR Doc. 06-9520 Filed 12-4-06; 8:45 am]

BILLING CODE 3410-11-M